DEPARTMENT OF COMMERCE

International Trade Administration

[A-469-805]

Stainless Steel Bar From Spain: Final Results of Antidumping Duty Administrative Review; 2017-2018

AGENCY: Enforcement and Compliance, International Trade Administration, Department of Commerce.

SUMMARY: The Department of Commerce (Commerce) determines that Sidenor Aceros Especiales S.L. (Sidenor) sold subject merchandise in the United States at prices below normal value (NV) during the period of review (POR) March 1, 2017, through August 8, 2017.

DATES: Applicable March 25, 2019.

FOR FURTHER INFORMATION CONTACT: Trenton Duncan or Kabir Archuletta, AD/CVD Operations, Office V, Enforcement and Compliance, International Trade Administration, U.S. Department of Commerce, 1401 Constitution Avenue NW, Washington, DC 20230; telephone: (202) 482-3539 or (202) 482-2593, respectively.

SUPPLEMENTARY INFORMATION:

Background

Commerce published the Preliminary Results of this administrative review on stainless steel bar (SSB) from Spain on December 10, 2018.¹ We invited interested parties to comment on the Preliminary Results; however, no interested party submitted comments. Commerce conducted this administrative review of the antidumping duty order on SSB from Spain in accordance with sections 751(a)(1) and (2) of the Tariff Act of 1930, as amended (the Act).² When the review was initiated, the period of review (POR) was March 1, 2017, through Febrary 28, 2018. However, on October 3, 2018, as a result of a five-year (sunset) review, Commerce revoked the antidumping duty order on imports of stainless steel bar (SSB) from Spain, effective August 9, 2017.³ As a result, the POR was revised to March 1, 2017, through August 8, 2017.⁴

¹ See Stainless Steel Bar from Spain: Preliminary Results of Antidumping Duty Administrative Review; 2017-2018, 83 FR 63478 (December 10, 2018) (Preliminary Results).

² See Amended Final Determination and Antidumping Duty Order: Stainless Steel Bar from Spain, 60 FR 11656 (March 2, 1995) (Order).

³ See Stainless Steel Bar from Brazil, India, Japan, and Spain: Continuation of Antidumping Duty Order (India) and Revocation of Antidumping Duty Orders (Brazil, Japan, and Spain), 83 FR 49910 (October 3, 2018) (Revocation Notice).

⁴ Id.

Commerce exercised its discretion to toll all deadlines affected by the partial federal government closure from December 22, 2018, through the resumption of operations on January 29, 2019.⁵ If the new deadline falls on a non-business day, in accordance with Commerce's practice, the deadline will become the next business day. The revised deadline for the final results of this review is now May 20, 2019.

⁵ See memorandum to the Record from Gary Taverman, Deputy Assistant Secretary for Antidumping and Countervailing Duty Operations, performing the non-exclusive functions and duties of the Assistant Secretary for Enforcement and Compliance, “Deadlines Affected by the Pai1ial Shutdown of the Federal Government,” dated January 28, 2019. All deadlines in this segment of the proceeding have been extended by 40 days.

Scope of the Order

The merchandise covered by the order is Stainless Steel Bar. The merchandise subject to this order is currently classified under the following Harmonized Tariff Schedule of the United States (HTSUS) subheadings: 7222.10.00, 7222.11.00, 7222.19.00, 7222.20.00, and 7222.30.00.⁶ Although the HTSUS subheadings are provided for convenience and customs purposes, the written description of the scope of the order is dispositive.⁷

⁶ For a full description of the scope of the order, see Memorandum, “Decision Memorandum for the Preliminary Results of Antidumping Duty Administrative Review: Stainless Steel Bar from Spain; 2017-2018,” dated December 3, 2018.

⁷ The HTSUS numbers provided in the scope changed since the publication of the order. See Amended Final Determination and Antidumping Duty Order: Stainless Steel Bar from Spain, 60 FR 11656 (March 2, 1995).

Changes Since the Preliminary Results

As no parties submitted comments on the Preliminary Results, we made no changes in the final results of this review.

Final Results of the Review

As there are no changes from, or comments upon, the Preliminary Results, Commerce has not modified its analysis or calculations. Accordingly, no decision memorandum accompanies this Federal Register notice. We continue to find that Sidenor made sales of subject merchandise at less than normal value during the POR.

Commerce determines that the following weighted-average dumping margin exists for the period March 1, 2017, through August 8, 2017:

Exporter/producer | Weighted- average dumping margin (percent)
Sidenor Aceros Especiales, S.L | 1.76

Assessment Rates

Commerce will determine, and CBP shall assess, antidumping duties on all appropriate entries in this review, in accordance with section 751(a)(2)(C) of the Act and 19 CFR 351.212(b)(1). Commerce intends to issue assessment instructions directly to CBP 15 days after publication of these final results of review.

In accordance with Commerce's “automatic assessment” practice, for entries of subject merchandise during the POR produced by Sidenor for which it did not know that the merchandise was destined for the United States, we will instruct CBP to liquidate those entries at the all-others rate if there is no rate for the intermediate company(ies) involved in the transaction.

Cash Deposit Requirements

In the Revocation Notice, Commerce stated that it intends to issue instructions to CBP to terminate the suspension of liquidation and to discontinue the collection of cash deposits on entries of subject merchandise, entered or withdrawn from warehouse, on or after August 9, 2017.⁸ Furthermore, because the antidumping duty order on SSB from Spain has been revoked as a result of the Revocation Notice, Commerce does not intend to issue cash deposit instructions at the conclusion of this administrative review.

⁸ See Stainless Steel Bar from Brazil, India, Japan, and Spain: Continuation of Antidumping Duty Order (India) and Revocation of Antidumping Duty Orders (Brazil, Japan, and Spain), 83 FR 49910 (October 3, 2018) (Revocation Notice).

Reimbursement of Duties

This notice also serves as a final reminder to importers of their responsibility under 19 CFR 351.402(f)(2) to file a certificate regarding the reimbursement of antidumping duties prior to liquidation of the relevant entries during this POR. Failure to comply with this requirement could result in the Secretary's presumption that reimbursement of antidumping and/or countervailing duties occurred and the subsequent assessment of doubled antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is subject to sanction.

We are issuing and publishing this notice in accordance with sections 751(a)(1) and 777(i)(1) of the Act and 19 CFR 351.213(h).

Dated: March 20, 2019.
Christian Marsh,
Deputy Assistant Secretary for Enforcement and Compliance.

[FR Doc. 2019-05644 Filed 3-22-19; 8:45 am]

BILLING CODE 3510-DS-P